DEPARTMENT OF COMMERCE

National Oceanic and Atmospheric Administration

[RTID 0648-XB594]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee, including joint sessions with the Atlantic States Marine Fisheries Commission's Bluefish and Summer Flounder, Scup, and Black Sea Bass Boards.

DATES: The meetings will be held Monday, December 13, 2021 through Thursday, December 16, 2021. For agenda details, see SUPPLEMENTARY INFORMATION.

ADDRESSES: This meeting will be conducted in a hybrid format, with options for both in person and webinar participation. The meeting will be held at the Westin Annapolis, 100 Westgate Circle, Annapolis, MD 21401, telephone: (410) 972-4300. Webinar registration details will be available on the Council's website at https://www.mafmc.org/briefing/december-2021.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, although agenda items may be addressed out of order (changes will be noted on the Council's website when possible.)

Monday, December 13, 2021

Executive Committee (Closed Session)

Ricks E Savage Award

Wind Updates

Consider revisions to the Council's policy on offshore wind energy develop

Updates from the Bureau of Ocean Energy Management

Update on Kitty Howk Wind Project (Rick Robbins)

Update from US Wind

Omega Net Mesh Measurement Gauge

(Spencer Talmage, Greater Atlantic Regional Fisheries Office LCDR Matthew Kahley, USCG)

Presentation on the current status of the rulemaking process regarding the use of this device

Council Meeting With the Atlantic States Marine Fisheries Commission's Bluefish Board

2022-23 Bluefish Recreational Measures

Review Monitoring Committee recommendations

Adopt recommendations for 2022-23 federal waters recreational management measures

Tuesday, December 14, 2021

Council Meeting With the Atlantic States Marine Fisheries Commission's Summer Flounder, Scup, and Black Sea Bass Board

Ecosystem Approach to Fisheries Management (EAFM) Recreational Summer Flounder Management Strategy Evaluation (MSE)

Review outcomes and recommendations from November 8-9 core stakeholder group workshop

Update on project timeline and tasks

2022 Summer Flounder Recreational Measures

Review Advisory Panel and Monitoring Committee recommendations

Recommend conservation equivalency or coastwide management and associated measures for 2022

2022 Scup Recreational Measures

Review Advisory Panel and Monitoring Committee recommendations

Recommend 2022 recreational management measures for federal waters

2022 Black Sea Bass Recreational Measures

Review Advisory Panel and Monitoring Committee recommendations

Recommend conservation equivalency or coastwide management and associated measures for 2022

Final Action on Summer Flounder, Scup, and Black Sea Bass Commercial/Recreational Allocation Amendment

Review alternatives

Review staff recommendations

Consider final action

Wednesday, December 15, 2021

Biennial Review of 2020-24 Research Priorities Document

Review proposed research priority changes and Research Steering Committee recommendations

Approved updated research priorities document

Surfclam and Ocean Quahog Species Separation Requirements

Review white paper and identify next steps

Climate Change Scenario Planning

Summary of scoping input and update on next steps

Ocean City, Maryland Video Project

Update on data collection and next

Habitat Activities

Update from Greater Atlantic Regional Fisheries Office Habitat Conservation Division on activities of interest (aquaculture, other projects) in the region

Sea Turtle Bycatch in Trawl Fisheries

(Carrie Upite, Greater Atlantic Regional Fisheries Office, Sea Turtle Recovery Coordinator)

GARFO presentation on outreach process for development of bycatch reduction measures to reduce takes of sea turtles in trawl fisheries

Acknowledgements and Awards

Thursday, December 16, 2021

2022 Implementation Plan

Review and approve 2022 Implementation Plan

Business Session

Committee Reports (SSC, Research Steering Committee, Executive Committee); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c).

Special Accommodations

These meetings are physically accessible to people with disabilities. Requests for sign language interpretation or other auxiliary aid should be directed to Shelley Spedden, (302) 526-5251, at least 5 days prior to the meeting date.

Authority: 16 U.S.C. 1801 et seq.

Dated: November 16, 2021.
Tracey L. Thompson,
Acting Deputy Director,Office of Sustainable Fisheries,National Marine Fisheries Service.

[FR Doc. 2021-25279 Filed 11-18-21; 8:45 am]

BILLING CODE 3510-22-P